SOCIAL SECURITY ADMINISTRATION

20 CFR Parts 404 and 416

[Docket No. SSA-2023-0024]

RIN 0960-AI83

Intermediate Improvement to the Disability Adjudication Process, Including How We Consider Past Work; Deferral of Effective Date

AGENCY: Social Security Administration.

ACTION: Final rule; deferral of effective date.

SUMMARY: We published in the Federal Register on April 18, 2024, a final rule to revise the time period we consider when determining whether an individual's past work is relevant for the purposes of making disability determinations and decisions under our rules. The preamble of that final rule cited an effective date of June 8, 2024. This rulemaking defers that effective date to June 22, 2024.

DATES: As of June 5, 2024, the effective date of the final rule published on April 18, 2024, at 89 FR 27653, is deferred from June 8, 2024, to June 22, 2024.

FOR FURTHER INFORMATION CONTACT: Mary Quatroche, Office of Disability Policy, Social Security Administration, 6401 Security Boulevard, 3rd Floor (East), Altmeyer Building, Baltimore, MD 21235-6401, (410) 966-4794. For information on eligibility or filing for benefits, call our national toll-free number, 1-800-772-1213 or TTY 1-800-325-0778, or visit our internet site, Social Security Online, at https://www.socialsecurity.gov.

SUPPLEMENTARY INFORMATION: On April 18, 2024, we published the final rule Intermediate Improvement to the Disability Adjudication Process Including How We Consider Past Work in the Federal Register (final rule).¹ The published final rule revises the relevant time period we consider from 15 years to 5 years when determining whether an individual's past work is relevant for the purposes of making disability determinations and decisions. The final rule further clarifies that we will not consider past work that started and stopped in fewer than 30 calendar days to be considered past relevant work (PRW).

¹ 89 FR 27653 (April 18, 2024).

We stated in the preamble of the final rule that its provisions would take effect and be applied to all claims pending and newly filed beginning on June 8, 2024. We are now publishing this rulemaking document to defer the final rule's effective date to June 22, 2024. We will apply the final rule and all procedures set forth therein, as previously described in the originally published final rule, to all claims newly filed and pending beginning on June 22, 2024.

The Commissioner of the Social Security Administration, Martin O'Malley, having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2024-12285 Filed 6-4-24; 8:45 am]

BILLING CODE 4191-02-P